DEPARTMENT OF COMMERCE

International Trade Administration

(C-570-917)

Laminated Woven Sacks from the People's Republic of China: Postponement of Preliminary Determination in the Countervailing Duty Investigation

AGENCY: Import Administration, International Trade Administration, Department of Commerce.

EFFECTIVE DATE: September 10, 2007.

FOR FURTHER INFORMATION CONTACT: Mark Hoadley or Jack Zhao, AD/CVD Operations, Office 6, Import Administration, International Trade Administration, U.S. Department of Commerce, 14th Street and Constitution Avenue, NW, Washington, DC 20230; telephone: (202) 482-3148 and (202) 482-1396, respectively.

SUPPLEMENTARY INFORMATION:

Background

On July 18, 2007, the Department of Commerce (Department) initiated the countervailing duty investigation of laminated woven sacks (LWS) from the People's Republic of China. See Laminated Woven Sacks from the People's Republic of China: Initiation of Countervailing Duty Investigation, 72 FR 40839 (July 25, 2007). Currently, the preliminary determination is due no later than September 21, 2007.

Postponement of Due Date for Preliminary Determination

On August 23, 2007, Bancroft Bag, Inc., Coating Excellence International, Inc., Hood Packaging Corporation, Mid-America Packaging, LLC, and Polytex Fibers Corporation (collectively, petitioners), submitted a letter requesting that the Department postpone the preliminary determination of the countervailing duty investigation of LWS from the People's Republic of China by 65 days. Under section 703(c)(1)(A) of the Tariff Act of 1930, as amended (the Act), the Department may extend the period for reaching a preliminary determination in a countervailing duty investigation until not later than the 130th day after the date on which the administering authority initiates an investigation if the petitioner makes a timely request for an extension of the period within which the determination must be made under section 703(b) of the Act. Pursuant to section 351.205(e) of the Department's regulations, the petitioners' request for postponement of the preliminary determination was made 25 days or more before the scheduled date of the preliminary determination. Accordingly, we are extending the due date for the preliminary determination by 65 days to November 25, 2007. Because November 25, 2007 is a Sunday, the Department will issue the preliminary determination no later than November 26, 2007.

This notice is issued and published pursuant to section 703(c)(2) of the Act.

Dated: August 31, 2007.
David M. Spooner,
Assistant Secretary for Import Administration.

[FR Doc. E7-17747 Filed 9-7-07; 8:45 am]

BILLING CODE 3510-DS-S